DEPARTMENT OF THE INTERIOR

Fish and Wildlife Service

Information Collection To Be Sent to the Office of Management and Budget (OMB) for Approval Under the Paperwork Reduction Act; 1018-0127; Horseshoe Crab (Limulus polyphemus) Tagging Program

AGENCY: Fish and Wildlife Service, Interior.

ACTION: Notice; request for comments.

SUMMARY: We (Fish and Wildlife Service) plan to send the collection of information described below to OMB for approval under the provisions of the Paperwork Reduction Act. Information collected through the horseshoe crab tagging program will aid in managing and protecting this species.

DATES: You must submit comments on or before October 3, 2005.

ADDRESSES: Send comments on the information collection requirements to Hope Grey, Information Collection Clearance Officer, Fish and Wildlife Service, MS 222-ARLSQ, 4401 N. Fairfax Drive, Arlington, VA 22203 (mail); Hope_Grey@fws.gov (e-mail); or (703) 358-2269 (fax).

FOR FURTHER INFORMATION CONTACT: To request a copy of the proposed information collection requirements, related forms, or explanatory material, contact Hope Grey, Information Collection Clearance Officer, at the addresses above or by telephone at (703) 358-2482.

SUPPLEMENTARY INFORMATION: OMB regulations at 5 CFR 1320, which implement provisions of the Paperwork Reduction Act of 1995 (44 U.S.C. 3501 et seq.), require that interested members of the public and affected agencies have the opportunity to comment on information collection and recordkeeping activities (see 5 CFR 1320.8(d)). On June 10, 2005, OMB approved our emergency request for information collection associated with the horseshoe crab tagging program. The supporting statement for our emergency request is available online at http://www.fws.gov/pdm/0127SupCurrent.pdf. The OMB control number for this collection is 1018-0127, which expires on November 30, 2005. We plan to request that OMB approve this information collection for a 3-year term. Federal agencies may not conduct or sponsor and a person is not required to respond to a collection of information unless it displays a currently valid OMB control number.

Horseshoe crabs are among the world's oldest creatures. This evolutionary survivor has been used by people for centuries. It plays an important role in the ecology of the coastal ecosystem, while over time also providing the opportunity for commercial, recreational, medical, scientific, and educational uses.

In 1998, the Atlantic States Marine Fisheries Commission (ASMFC), a management organization with representatives from each State on the Atlantic Coast, developed a horseshoe crab management plan. The ASMFC plan and its subsequent addenda established mandatory State-by-State harvest quotas, and created the 1,500 square mile Carl N. Shuster, Jr. Horseshoe Crab Sanctuary off the mouth of Delaware Bay. Active management and innovative techniques used by fishermen to conserve bait have successfully reduced commercial horseshoe crab landings in recent years. Conch and eel fishermen have been using bait bags in their traps, so they can only use a portion of one crab per trap, compared to using a whole crab in each trap. The bait bags have reduced the demand for bait by 50 to 75 percent in recent years.

Although restrictive measures have been taken in recent years, populations are not showing immediate increases. Because horseshoe crabs do not breed until they reach 9 or more years of age, it may take some time before the population measurably increases. Recently a Horseshoe Crab Cooperative Tagging Program was established to monitor this species. Horseshoe crabs are tagged and released by cooperating Federal and State agencies, universities, and biomedical companies. Agencies that tag and release horseshoe crabs will complete the Horseshoe Crab Tagging Release Form (FWS Form 3-2311) and provide the following data to the Service: organization name, contact person name, tag number, sex of crab, prosomal width, capture site, latitude, longitude, waterbody, State, and date.

Through public participants who recover tagged crabs, we plan to collect the following information using FWS Form 3-2310 (Horseshoe Crab Recapture Report): tag number, whether or not tag was removed, whether or not the tag was circular or square, condition of crab, date captured/found, crab fate, finder type, capture method, capture location, reporter information, and comments. If the public participant who reports the tagged crab requests information, we will send data pertaining to the tagging program, and tag and release information on the horseshoe crab he/she found or captured. The information collected is stored at the Maryland Fishery Resources Office, Fish and Wildlife Service, and used to evaluate migratory patterns, survival, and abundance of horseshoe crabs.

Title: Horseshoe Crab Tag Tagging Program.

OMB Control Number: 1018-0127.

Form Number: FWS Forms 3-2310 and 3-2311.

Frequency: When horseshoe crabs are tagged and when horseshoe crabs are found or captured.

Description of Respondents: Tagging agencies include Federal and State agencies, universities, and biomedical companies. Members of the general public provide recapture information.

Total Annual Responses: Approximately 1,510.

Total Annual Burden Hours: 980 hours.

We invite comments concerning this submission on: (1) Whether or not the collection of information is necessary for the proper performance of the functions of the agency, including whether or not the information will have practical utility; (2) the accuracy of our estimate of the burden of collection of information; (3) ways to enhance the quality, utility, and clarity of the information to be collected; and, (4) ways to minimize the burden of the collection of information on respondents.

Dated: June 29, 2005.
Hope G. Grey,
Information Collection Clearance Officer, Fish and Wildlife Service.

[FR Doc. 05-15304 Filed 8-2-05; 8:45 am]

BILLING CODE 4310-55-P